DEPARTMENT OF THE INTERIOR

Fish and Wildlife Service

[FWS-R7-ES-2020-N056; FF07CAMM00.FX.ES111607MRG02; OMB Control Number 1018-0066]

Agency Information Collection Activities; Submission to the Office of Management and Budget for Review and Approval; Marine Mammal Marking, Tagging, and Reporting Certificates, and Registration of Certain Dead Marine Mammal Hard Parts

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before September 2, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Service Information Collection Clearance Officer, U.S. Fish and Wildlife Service, MS: PRB (JAO/3W), 5275 Leesburg Pike, Falls Church, VA 22041-3803 (mail); or by email to Info_Coll@fws.gov. Please reference OMB Control Number 1018-0066 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 2, 2019 (84 FR 65997). We did not receive any comments in response to that notice.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under section 101(b) of the Marine Mammal Protection Act of 1972, as amended (MMPA; 16 U.S.C. 1361-1407), Alaska Natives residing in Alaska and dwelling on the coast of the North Pacific or Arctic Oceans may harvest polar bears, northern sea otters, and Pacific walruses for subsistence or handicraft purposes. Section 109(i) of the MMPA authorizes the Secretary of the Interior to prescribe marking, tagging, and reporting regulations applicable to the Alaska Native subsistence and handicraft take.

On behalf of the Secretary, we implemented regulations at 50 CFR 18.23(f) for Alaska Natives harvesting polar bears, northern sea otters, and Pacific walruses. These regulations enable us to gather data on the Alaska Native subsistence and handicraft harvest and on the biology of polar bears, northern sea otters, and Pacific walruses in Alaska to determine what effect such take may be having on these populations. The regulations also provide us with a means of monitoring the disposition of the harvest to ensure that any commercial use of products created from these species meets the criteria set forth in section 101(b) of the MMPA. We use three forms to collect the information: FWS Form 3-2414 (Polar Bear Tagging Certificates), FWS Form 3-2415 (Walrus Tagging Certificates), and FWS Form 3-2416 (Sea Otter Tagging Certificates). The information we collect includes, but is not limited to:

• Date of kill;

• Sex of the animal;

• Kill location;

• Age of the animal (i.e., adult, subadult, cub, or pup);

• Form of transportation used to make the kill of polar bears;

• Amount of time (i.e., hours/days hunted) spent hunting polar bears;

• Type of take (live-killed or beach-found) for walrus;

• Number of otters present in and number of otters harvested from pod;

• Condition of the polar bear and whether or not bear cubs were present; and

• Name of the hunter or possessor of the specified parts at the time of marking, tagging, and reporting.

We use FWS Form 3-2406 (Registration of Certain Dead Marine Mammal Hard Parts) to record the collection of bones, teeth, or ivory of dead marine mammals by non-Native and Natives not eligible to harvest marine mammals under the MMPA. It is legal to collect such parts from a beach or from land within a quarter of a mile of the ocean (50 CFR 18.26). The information we collect via Form 3-2406 includes, but is not limited to:

• Date and location found.

• Age, sex, and size of the animal.

• Tag numbers.

• Name, address, phone number, and birthdate of the collector.

Proposed Changes to Form 3-2414, “Polar Bear Tagging Certificate”

With the changing environment, we are making a few needed changes to the Form 3-2414. These changes are:

A. Age Class (Five different categories).

B. Bear Condition (Three different categories).

C. Research Marks/Tags (New Question).

D. Conflict or Problem Bear? (New question).

E. Defense of Life (Property removed).

F. Hunter Available for Post Hunt Interview? (Yes/No). Phone # (New question).

Post-Interview Questions (if the hunter agrees):

a. Was there a food source/attractant that the bear was interested in? What was the attractant?

b. Was there any attempt to haze the bear to get it to leave?

c. Was it believed that the bear could be a threat to people?

NOTE: These are typical post-hunt questions that would only be asked if the biologist needed information on a bear that was marked as a problem bear. There is no standardized questioning.

G. We removed the “Time Spent Hunting” and “Vehicle Use While Hunting” questions, as this information has not proved valuable.

Title of Collection: Marine Mammal Marking, Tagging, and Reporting Certificates, and Registration of Certain Dead Marine Mammal Hard Parts, 50 CFR 18.23(f) and 18.26.

OMB Control Number: 1018-0066.

Form Number: FWS Forms 3-2406, 3-2414, 3-2415, and 3-2416.

Type of Review: Revision of a currently approved collection.

Respondents/Affected Public: Individuals and households, private sector, and State/local/Tribal governments.

Respondent's Obligation: Required to obtain or retain a benefit.

Frequency of Collection: On occasion.

Total Estimated Annual Nonhour Burden Cost: None.

Activity | Number of respondents | Number of responses | Completion time per response | Total annual burden hours *
3-2414 (Polar Bear) | 20 | 30 | 15 minutes | 8
3-2415 (Walrus) | 90 | 300 | 15 minutes | 75
3-2416 (Sea Otter) | 60 | 1,500 | 15 minutes | 375
3-2406 (Beach Found) | 200 | 200 | 15 minutes | 50
Totals: | 370 | 2,030 |  | 508
* Rounded.

An agency may not conduct or sponsor and a person is not required to respond to a collection of information unless it displays a currently valid OMB control number.

The authority for this action is the Paperwork Reduction Act of 1995 (44 U.S.C. 3501 et seq.).

Dated: July 29, 2020.
Madonna Baucum,
Information Collection Clearance Officer, U.S. Fish and Wildlife Service.

[FR Doc. 2020-16821 Filed 7-31-20; 8:45 am]

BILLING CODE 4333-15-P